DEPARTMENT OF ENERGY

Federal Energy Regulatory Commission

Combined Notice of Filings #1

Take notice that the Commission received the following electric corporate filings:

Docket Numbers: EC14-100-000.

Applicants: Beech Ridge Energy LLC, Beech Ridge Energy II LLC, Beech Ridge Energy Storage LLC, Bishop Hill Energy LLC, Bishop Hill Energy III LLC, Bishop Hill Interconnection LLC, Forward Energy LLC, California Ridge Wind Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Sheldon Energy LLC, Spring Canyon Energy LLC, Spring Canyon Energy II LLC, Spring Canyon Energy III LLC, Spring Canyon Interconnection LLC, Stony Creek Energy LLC, Vantage Wind Energy LLC, Willow Creek Energy LLC, Wolverine Creek Energy LLC, Wolverine Creek Goshen Interconnection LLC, Prairie Breeze Wind Energy LLC.

Description: Application for Authorization under Section 203 of the Federal Power Act and Request for Waivers and Expedited Action of Beech Ridge Energy LLC, et. al.

Filed Date: 6/6/14.

Accession Number: 20140606-5190.

Comments Due: 5 p.m. ET 6/27/14.

Take notice that the Commission received the following electric rate filings:

Docket Numbers: ER11-3731-006.

Applicants: LWP Lessee, LLC.

Description: Notice of Non-Material Change in Status of LWP Lessee, LLC.

Filed Date: 6/9/14.

Accession Number: 20140609-5074.

Comments Due: 5 p.m. ET 6/30/14.

Docket Numbers: ER14-1477-001.

Applicants: New England Power Pool Participants Committee, ISO New England Inc.

Description: ORTP Compliance Filing to be effective 5/13/2014.

Filed Date: 6/9/14.

Accession Number: 20140609-5037.

Comments Due: 5 p.m. ET 6/30/14.

Docket Numbers: ER14-2151-000.

Applicants: Wisconsin Public Service Corporation.

Description: WPSC Distribution Wheeling Service Agreement with MSCPA to be effective 1/1/2014.

Filed Date: 6/6/14.

Accession Number: 20140606-5150.

Comments Due: 5 p.m. ET 6/27/14.

Docket Numbers: ER14-2152-000.

Applicants: PJM Interconnection, L.L.C.

Description: Notice of Cancellation of Original Service Agreement No. 3792 to be effective 4/30/2014.

Filed Date: 6/9/14.

Accession Number: 20140609-5000.

Comments Due: 5 p.m. ET 6/30/14.

Docket Numbers: ER14-2153-000.

Applicants: New England Power Pool Participants Committee, ISO New England Inc.

Description: Demand Curve Revisions to be effective 9/1/2014.

Filed Date: 6/9/14.

Accession Number: 20140609-5067.

Comments Due: 5 p.m. ET 6/30/14.

Docket Numbers: ER14-2154-000.

Applicants: Midcontinent Independent System Operator, Inc.

Description: 2014-06-09_Rochester Public Utilites Add to Pricing Zone 20 to be effective 12/1/2014.

Filed Date: 6/9/14.

Accession Number: 20140609-5129.

Comments Due: 5 p.m. ET 6/30/14.

Take notice that the Commission received the following electric reliability filings:

Docket Numbers: RR14-3-000.

Applicants: North American Electric Reliability Corp.

Description: North American Electric Reliability Corporation Petition for Approval of the Amendments to Exhibit B of the Amended and Restated Delegation Agreement with SERC Reliability Corporation—the SERC Bylaws.

Filed Date: 6/6/14.

Accession Number: 20140606-5195.

Comments Due: 5 p.m. ET 6/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2014.
Kimberly D. Bose,
Secretary.

[FR Doc. 2014-14071 Filed 6-16-14; 8:45 am]

BILLING CODE 6717-01-P